DEPARTMENT OF TRANSPORTATION

Maritime Administration

[Docket Number MARAD-2018-0088]

Centers of Excellence for Domestic Maritime Workforce Training and Education; Designation Policy Update and Notice of Opportunity To Apply for Designation for 2023

AGENCY: Maritime Administration, Department of Transportation.

ACTION: Notice.

SUMMARY: This notice updates the Centers of Excellence for Domestic Maritime Workforce Training and Education (CoE) designation policy and invites eligible and qualified training entities to apply to the Maritime Administration (MARAD) for designation as a 2023 CoE. CoE designations serve to assist the maritime industry in obtaining and maintaining the highest quality workforce. On December 23, 2022, Congress passed the James M. Inhofe National Defense Authorization Act for Fiscal Year 2023 (FY 2023 NDAA), which changed the eligibility criteria for CoE designations by amending the definition of “covered training entity” (see Key Terms). As a result, MARAD has terminated action on all 2022 applications which were based on eligibility criteria no longer valid under the new law.

DATES: Applications, including all supporting information and documents, must be submitted by 8:00 p.m. E.T. on September 18, 2023.

ADDRESSES: Applications, including all supporting information and documents, must be submitted via electronic mail to CoEDMWTE@dot.gov. The original application letter, including one copy of all supporting information and documents, may also be submitted by mail addressed to U.S. Department of Transportation, Maritime Administration, Deputy Associate Administrator for Maritime Education and Training, Attention: CoE Designation Program, 1200 New Jersey Avenue SE, Washington, DC 20590.

FOR FURTHER INFORMATION CONTACT: Gerard Wall, Centers of Excellence for Domestic Maritime Workforce Training and Education (CoE) Program Manager, via electronic mail at gerard.wall@dot.gov or call 202-366-7273.

SUPPLEMENTARY INFORMATION: Section 3507 of the FY 2018 NDAA provided authority to the Secretary to designate eligible and qualified entities as CoEs. This authority is codified at 46 U.S.C. 51706. Following the enactment of the FY 2018 NDAA, MARAD developed a procedure to recommend to the Secretary the designation of eligible institutions as CoEs. Section 3532 of the FY 2023 NDAA, enacted on December 23, 2022, changed eligibility criteria for CoE designations by amending the definition of “covered training entity.” MARAD has revised its CoE designation procedure to conform to the amended CoE eligibility criteria in the FY 2023 NDAA.

Previously, the definition of “covered training entity” was restricted to institutions specifically identifying as a “Community or Technical College” or “Maritime Training Center.” The FY 2023 NDAA replaced those terms with new categories that include postsecondary education entities, apprenticeship sponsors, and structured experiential learning training programs.

46 U.S.C. 51706(c)(1)(B), provides that a “covered training entity” includes (i) a postsecondary educational institution; (ii) a postsecondary vocational institution; (iii) a public or private nonprofit entity that offers one or more other structured experiential learning training programs for United States maritime industry, including a program that is offered by a labor organization or conducted in partnership with a nonprofit organization or one or more employers in the United States maritime industry; (iv) an entity sponsoring a registered apprenticeship program; or (v) a maritime training center designated prior to the date of enactment of the FY 2023 NDAA. As reflected in the definition of “covered training entity” in the Key Terms section of this notice, to be eligible for a 2023 CoE designation, an entity must meet one of the eligibility criteria under clauses (i) through (v) of 46 U.S.C. 51706(C)(1)(B).

Qualified training entities seeking to be designated as CoEs should apply to MARAD. MARAD has developed the new policy to provide interested parties with comprehensive agency guidance on how to apply for CoE designation and how the CoE program will be administered. Applications should include information to demonstrate that the applicant institution meets certain eligibility requirements, selection criteria, and qualitative attributes consistent with section 3532 of the FY 2023 NDAA.

The MARAD application procedure and program details are listed below and are also available to the public on its website at https://www.maritime.dot.gov/education/maritime-centers-excellence.

Eligible entities who submitted applications in response to the previous MARAD notice in the Federal Register (87 FR 43103) on July 19, 2022, must resubmit their applications, including a new letter from the Chief Executive indicating which of the revised eligibility categories best reflects the nature of their institution and a statement explaining how they qualify under that applicable eligibility category. Such applicants may resubmit supporting documents and data from 2022 unless there are substantive changes to the previously submitted information in which case an updated version is to be submitted with the 2023 application.

Prior Federal Action

Multiple Federal Register Notices were published between May 2018 and March 2020 seeking and responding to public comment on the proposed CoE designation policy. All unabridged comments are available for review electronically at www.regulations.gov by searching DOT Docket “MARAD-2018-0088” or by visiting the DOT Docket, Room PL-401, 1200 New Jersey Avenue SE, Washington, DC, between 9 a.m. and 5 p.m., Monday through Friday, except for Federal Holidays.

On March 06, 2020, MARAD published its final CoE designation policy in the Federal Register (85 FR 13231). Subsequently, MARAD issued a notice in the Federal Register (85 FR 67599) on October 23, 2020, entitled Center of Excellence for Domestic Maritime Workforce: Notice of Opportunity to Apply for Training and Education Designation, and on the MARAD website at www.MARAD.dot.gov, requesting applications from qualified training entities seeking to be designated as a CoE. The application period closed on December 22, 2020. Thirty applications for designation were received. Upon the Secretary's approval, twenty-seven institutions were designated on May 19, 2021, as 2021 CoEs.

On July 19, 2022, MARAD issued a notice in the Federal Register (87 FR 43103), entitled Center of Excellence for Domestic Maritime Workforce: Notice of Opportunity to Apply for Training and Education Designation, and on the MARAD website at www.MARAD.dot.gov, to solicit applications from eligible and qualified training entities for the next round of CoE designations for 2022. The application period closed on September 19, 2022. Thirty-six applications for designation were received. However, before MARAD could complete final agency action on these applications, Congress enacted the FY 2023 NDAA, which amended the CoE designation eligibility criteria. Because of these changes to the eligibility criteria, MARAD has terminated action on the 2022 applications which were based on eligibility criteria no longer valid under current law.

MARAD has updated its CoE designation policy to conform to the FY 2023 NDAA. The purpose of this notice is to announce termination of agency action on the 2022 applications, issue an updated CoE designation policy conforming to the FY 2023 NDAA, and solicit applications from eligible and qualified training entities under the FY 2023 NDAA for 2023 CoE designations.

Applicant Assistance

To assist applicants to be designated as a CoE please find below MARAD's policy to include recommendations on how best to apply.

MARAD Center of Excellence for Domestic Maritime Workforce Training and Education Designation Policy

This policy describes the process through which MARAD will exercise its discretionary authority to designate CoEs in accordance with the FY 2023 NDAA.

How To Be Designated a Center of Excellence for Domestic Maritime Workforce Training and Education

Introduction

The Secretary of Transportation, acting through the Maritime Administrator, may designate certain eligible and qualified training entities as CoEs. MARAD has developed the CoE Program to provide interested parties with comprehensive agency guidance on how best to apply for CoE designation. However, conformity with this CoE applicant guidance, except where explicit in the statute, is voluntary only. MARAD will review and consider all applications it receives and may contact applicants with questions to assist in reviewing their applications. The CoE Program is a voluntary program. Each eligible and qualified training entity is free to decide whether it wishes to participate in the program and apply for a CoE designation. Applications should include information to demonstrate that the applicant institution meets certain eligibility criteria, designation requirements, and attributes consistent with 46 U.S.C. 51706.

Key Terms

The following list of key terms are either directly taken from the statute or have been developed by MARAD or from comments received from the public during our earlier notice and comment period. The list is intended to assist applicants by providing context and insight into the approval process. If you believe that your institution qualifies for CoE designee status under an alternate interpretation or by qualifications not otherwise explicitly stated in the statute, your application should include a cogent justification for any such alternative qualification, and it will be given due consideration during our review.

1. “Afloat career” is a term developed by MARAD to mean a career as a merchant mariner compensated for service aboard a vessel in the U.S. Maritime Industry.

2. “Ashore career” is a term developed by MARAD to mean a shore-based compensated occupation in the United States Maritime Industry.

3. “Covered training entity” means an entity that—

(A) is located in a State that borders on the—

(i) Gulf of Mexico;

(ii) Atlantic Ocean;

(iii) Long Island Sound;

(iv) Pacific Ocean;

(v) Great Lakes; or

(vi) Mississippi River System.

(B) is—

i. a postsecondary educational institution (as such term is defined in section 3(39) of the Carl D. Perkins Career and Technical Education Act of 2006 (20 U.S.C. 2302));

ii. a postsecondary vocational institution (as such term is defined in section 102(c) of the Higher Education Act of 1965 (20 U.S.C. 1002(c));

iii. a public or private nonprofit entity that offers one or more other structured experiential learning training programs for United States workers in the United States maritime industry, including a program that is offered by a labor organization or conducted in partnership with a nonprofit organization or one or more employers in the United States maritime industry; or

iv. an entity sponsoring an apprenticeship program registered with the Office of Apprenticeship of the Employment and Training Administration of the Department of Labor or a State apprenticeship agency recognized by the Office of Apprenticeship pursuant to the Act of August 16, 1937 (commonly known as the `National Apprenticeship Act'; 50 Stat. 664, chapter 663; 29 U.S.C. 50 et seq.);

v. a maritime training center designated prior to the date of enactment of the FY 2023 NDAA; and

(C) has a demonstrated record of success in maritime workforce training and education.

4. “Mississippi River System” is interpreted by MARAD to mean the mostly riverine network of the United States which includes the Mississippi River, and all connecting waterways, natural tributaries and distributaries. The system includes the Arkansas, Illinois, Missouri, Ohio, Red, Allegheny, Tennessee, Wabash and Atchafalaya rivers. Important connecting waterways include the Illinois Waterway, the Tennessee-Tombigbee Waterway, and the Gulf Intracoastal Waterway.

5. “Postsecondary educational institution” means—

(A) an institution of higher education, as defined in 20 U.S.C. 1001, that provides not less than a 2-year program of instruction that is acceptable for credit toward a bachelor's degree;

(B) a tribally controlled college or university; or

(C) a nonprofit educational institution offering certificate or other skilled training programs at the postsecondary level;

6. “Postsecondary vocational institution” means a postsecondary vocational institution as defined in 20 U.S.C. 1002(c).

7. “State” is interpreted by MARAD to mean a State of the United States, the District of Columbia, Guam, Puerto Rico, the Virgin Islands, American Samoa, the Northern Mariana Islands, and any other territory or possession of the United States.

8. “Training program means a program that provides training services, as described in 29 U.S.C. 3174(c)(3)(D).

9. “United States maritime industry” (as such term is defined in 46 U.S.C. 51706(c)(6)) means the design, construction, repair, operation, manning, and supply of vessels in all segments of the maritime transportation system of the United States, including:

(A) the domestic and foreign trade;

(B) the coastal, offshore, and inland trade;

(C) non-commercial maritime activities, including -

(i) recreational boating; and

(ii) oceanographic and limnological research as described in 46 U.S.C. 2101(24).

Applicant Information

Note: Any entity that applied in 2022 under the Federal Register Notice published 7/19/2022, entitled Center of Excellence for Domestic Maritime Workforce; Notice of Opportunity to Apply for Maritime Training and Education Designation that would like to be considered for CoE designation must resubmit their application package. Resubmitted packages must include a new letter from the Chief Executive indicating which of the revised eligibility categories best reflects the nature of their institution and a statement explaining how they qualify under that applicable eligibility category. Such applicants may resubmit supporting documents and data from 2022 unless there are substantive changes to the previously submitted information in which case an updated version is to be submitted with the 2023 application.

1. Who is eligible to apply for designation as a Center of Excellence for Domestic Maritime Workforce Training and Education (CoE)?

Participation in the CoE program is entirely voluntary for a covered training entity. A covered training entity is not required to seek a CoE designation. Under the statute, a covered training entity that provides training and education for the domestic maritime workforce is eligible to apply so long as it meets the following criteria:

a. The entity is located in a State that borders on at least one of the following bodies of water:

1. Gulf of Mexico;

2. Atlantic Ocean;

3. Long Island Sound;

4. Pacific Ocean;

5. Great Lakes; or

6. Mississippi River System.

b. The entity has a demonstrated record of success in maritime workforce training and education; and

c. The entity is:

1. A postsecondary educational institution; or

2. A postsecondary vocational institution; or

3. A public or private nonprofit entity that offers one or more other structured experiential learning training programs for United States workers in the United States maritime industry, including a program that is offered by a labor organization or conducted in partnership with a nonprofit organization or one or more employers in the United States maritime industry; or

4. An entity sponsoring an apprenticeship program registered with the Office of Apprenticeship of the Employment and Training Administration of the Department of Labor or a State apprenticeship agency recognized by the Office of Apprenticeship pursuant to the Act of August 16, 1937 (commonly known as the `National Apprenticeship Act'; 50 Stat. 664, chapter 663; 29 U.S.C. 50 et seq.).; or

5. a maritime training center designated prior to the date of enactment of the FY 2023 NDAA; or

6. A group of covered training entities that:

i. Consists only of members that meet the eligibility criteria at (1)(a), 1(b) and one of the eligibility criteria listed at(1)(c)(1) through (1)(c)(4), and the selection criteria under (2);

ii. Names a member of such group as a lead entity. The lead entity will serve as the primary point of contact with MARAD and will be responsible for all duties, including administrative, legal and financial, as related to the CoE designation. For example, the lead entity is responsible for submitting the CoE application, responding to any inquiries from MARAD, and coordinating and executing any cooperative agreements with MARAD; and

iii. Has a legally binding agreement signed by all members. That agreement must include the name of the group, which will receive the CoE designation if one is granted and list the lead entity and its responsibilities consistent with (ii) of this section.

2. How does MARAD interpret the selection criteria for CoE designation?

I. Although CoE designations may result from MARAD review of alternative qualifications, applicants will be considered eligible if they can demonstrate compliance with all the following criteria:

a. The academic programs offered by the entity include:

1. One or more afloat career preparation tracks in the United States Maritime Industry, and/or

2. One or more ashore career preparation tracks in the United States Maritime Industry.

b. Applicant institutions offering afloat career and/or ashore career tracks have been accredited as follows:

1. A postsecondary educational institution must hold current accreditation of the institution from a Regional Accreditation Agency or a Nationally Recognized Agency on the list of Accrediting Agencies approved by the U.S. Department of Education.

2. A postsecondary vocational institution must hold current accreditation of the institution from a Regional Accreditation Agency or a Nationally Recognized Agency on the list of Accrediting Agencies approved by the U.S. Department of Education.

3. A public or private non-profit entity that offers one or more other structured experiential learning training programs for United States workers in the United States maritime industry, including a program that is offered by a labor organization or conducted in partnership with a nonprofit organization or one or more employers in the United States maritime industry—

i. must have United States Coast Guard (USCG) approval of the mariner training program and mariner training courses offered by the institution, if applicable; or

ii. must hold current accreditation of the maritime training program offered by the institution from one or more of the following:

A. the State's Department of Education or equivalent State agency; or

B. employers in the United States maritime industry; or

C. other appropriate external review body which is specifically authorized to review and validate post-secondary education programs and is acceptable to MARAD.

4. An entity sponsoring a registered apprenticeship program must hold current accreditation from a State Apprenticeship Agency (SAA) in accordance with 29 CFR part 29.

c. As applicable, the applicant maintains USCG approval for the merchant mariner training program and/or merchant mariner training course(s) offered by the institution.

d. The applicant provides data and statistics to demonstrate record of success in maritime workforce training and education and institutional and/or program effectiveness. This should include, but is not limited to, recruitment data, past/current enrollment (trends), attrition rates, student program completion data, post-program job and placement statistics (to the extent available to the institution), and program effectiveness feedback from students, faculty, alumni, and other stakeholders.

e. As applicable, the applicant maintains authorization and/or endorsement of the program and/or course(s) by an applicable professional society or industry body (including, but not limited to Welding, Electrician, Electronics, Maritime Construction, Maritime Logistics, Maritime Systems, etc.) to issue industry accepted certifications that reflect professional recognition of the level of educational or technical skill achievement.

II. Additional factors to be considered include the following qualitative attributes fostered by the institution:

a. Supporting workforce needs of the local, state, or regional economy;

b. Building Science, Technology, Engineering, and Math (STEM) competencies of local/future workforce through maritime programs to meet emerging local, regional, and national economic interests;

c. Promoting diversity, equity, inclusion, and accessibility within the institution, including among the student body, faculty, and staff;

d. Offering a broad-based curriculum and stackable credentials where applicable;

e. Engaging and/or collaborating with the maritime industry including, but not limited to employers, associations, and other industry organizations or partners;

f. Engaging and/or collaborating with employer-led maritime training practices and programs through Sector Partnerships as authorized in the 2014 Workforce Innovation and Opportunity Act section 3(26);

g. Engaging and/or collaborating with local and regional maritime high schools or other high schools with maritime, maritime related, Career Technical Education (CTE) or STEM programs;

h. Engaging and/or collaborating with maritime academies as appropriate and other applicable institutions or organizations for advanced proficiency and higher education; and

i. Conducting other significant domestic maritime workforce development related activities.

Implementation and Administration

MARAD will evaluate the applicant's supporting documentation and either approve or disapprove the request for designation. During the evaluation of the application and the supporting documentation, MARAD may request clarifications or additional information from the applicant. Upon approval, the Maritime Administrator or his/her designee will make a designation. MARAD will thereafter publish the CoE's name and contact information on its website.

3. When and where should I submit my application for designation?

a. MARAD will publish notifications in the Federal Register and on its website indicating the application period for the next designation cycle. Anticipated time frame for application invitation announcement is early spring, with application submission expected within 60 days of announcement. Applicants will be provided 60 days to prepare and submit their applications.

b. An eligible training entity seeking designation as a CoE may submit applications, including all supporting information and documents, by email to CoEDMWTE@dot.gov or by mail addressed as follows: Department of Transportation, Maritime Administration, Deputy Associate Administrator for Maritime Education and Training, Attention: CoE Designation Program, 1200 New Jersey Ave. SE, Washington, DC 20590.

4. How will I know the outcome of my designation request application?

MARAD will notify each applicant of the status of their designation request. During the evaluation period, MARAD may request clarification or additional information from the applicant.

5. Does my CoE designation expire?

Yes. CoE designation is valid only for the year in which the designation is made and is identified by designation year (e.g., X has been designated a Center of Excellence for Domestic Maritime Workforce Training and Education for 2023). Successful applicants from one designation cycle are encouraged to reapply during any subsequent designation cycle.

How To Apply for a CoE Designation

6. What should be included in my CoE Designation Application?

Special Instructions: To assist MARAD in its review of your application and to ensure that your application is identified as complete, your institution should provide only concise and relevant information and supporting documentation to adequately demonstrate your eligibility and compliance with the statutory designation criteria. To that end, MARAD encourages applicants ensure that each responsive section and each page of any document or enclosure in their application clearly references the question number(s) and section(s) listed in this guidance and/or the statute. See the below examples:

Example 1. “Mar Ex” is eligible for the CoE program as a Postsecondary Educational Institution. (Q3i). Please find enclosed our Articles of Incorporation, Certificate of Status, and State authorization validation document. (Q3, a, b, c)

Example 2. “Mar Ex” is enclosing the following supporting documents to demonstrate that our entity is accredited: U.S. Department of Education Accrediting Agency XYZ accreditation (Q5, Section a,i); and our Afloat Track program and courses are approved by the USCG (Q5, Section a,ii).

Note: MARAD will host two (2) “Center of Excellence Application” sessions to provide guidance to prospective applicants on the content of this Federal Register notice. The dates and times of those sessions will be announced on the MARAD CoE homepage within forty-eight (48) hours of the publication of the Notice of Opportunity to Apply. Attendance at either of those information sessions is entirely voluntary and not a requirement of the application process.

Information To Include in Your Application

All submitted documents should clearly reference the question number(s) and section(s) listed in this guidance and/or the statute.

1. Letter applying for CoE designation from the Chief Executive of the applicant institution.

2. Applicant contact information:

a. Legal name of applicant institution and address.

b. Chief executive's name, position title, address, phone number(s) and email.

c. Points of contact (POC) name(s), position titles, phone number(s), emails.

3. Indicate the eligibility category under which the applicant entity is claiming eligibility for the CoE program:

i. 1(c)(1) Postsecondary Educational Institution; or

ii. 1(c)(2) Postsecondary Vocational Institution; or

iii. 1(c)(3) Public or private nonprofit entity that offers one or more other structured experiential learning training programs for United States workers in the United States maritime industry, including a program that is offered by a labor organization or conducted in partnership with a nonprofit organization or one or more employers in the United States maritime industry; or

iv. 1(c)(4) Entity sponsoring a registered apprenticeship program; or

v. 1(c)(5) A maritime training center designated prior to the date of enactment of the FY 2023 NDAA; or

vi. 1(c)(6) A Group of covered training entities.

4. Submit the following supporting information and documents:

a. Charter, Articles of Incorporation, Certificate of Incorporation, or equivalent.

b. Certificate of Status (also known as Certificate of Existence or Certificate of Good Standing), a document issued by a State official (usually the Secretary of State), if applicable.

c. State authorization validation documents, if applicable.

d. Public or Non-Profit status certification.

e. Accreditation approval letter(s) from an accrediting agency(ies), if applicable.

f. Approval letter from a State Apprenticeship Agency (SAA) in accordance with 29 CFR part 29, if applicable.

g. Approval letter from the State's Department of Education or equivalent State agency, if applicable.

h. Approval letter from the United States Coast Guard (USCG), if applicable.

i. ISO 9001 or other quality management certification, if applicable.

j. Data and statistics to demonstrate record of success in maritime workforce training and education and institutional effectiveness. This should include, but not be limited to, recruitment data, past/current enrollment (trends), attrition rates, student program completion data, post-program job and placement statistics (to the extent available to the institution), and program effectiveness feedback from students, faculty, alumni, and other stakeholders.

Note: This information corresponds to the types of data commonly collected annually as part of a higher education institution's Performance Accountability Report (PAR).

4. Indicate the total number of afloat career preparation tracks and/or the total number of ashore career preparation tracks your institution offers in the United States Maritime Industry and submit the following supporting information:

a. Program summary;

b. A description of applicable courses offered (only relevant maritime related program-specific pages from the catalogue);

c. If applicable, letters of authorization and/or endorsement of the course/program and/or course(s) by an applicable professional society or industry body (including, but not limited to Welding, Electrician, Electronics, Maritime Construction, Maritime Logistics, Maritime Systems, etc.) to issue industry accepted certifications that reflect a professionally recognized level of educational or technical skill achievement; and

d. Any other relevant supporting documentation.

Note: Applicant institutions offering both ashore and afloat career tracks should submit supporting information for both tracks.

5. Applicant institutions offering afloat career and/or ashore career tracks should demonstrate that they have satisfied accreditation requirements, as set forth below:

a. Postsecondary educational institutions and postsecondary vocational institutions—

i. are accredited by a Regional Accreditation Agency or a Nationally Recognized Agency on the list of Accrediting Agencies approved by the U.S. Department of Education; and

ii. if applicable, the mariner training program and mariner training courses offered by the institution have USCG approval.

b. A public or private nonprofit entity that offers one or more other structured experiential learning training programs for United States workers in the United States maritime industry, including a program that is offered by a labor organization or conducted in partnership with a nonprofit organization or one or more employers in the United States maritime industry that—

i. has United States Coast Guard (USCG) approval of the mariner training program and mariner training courses offered by the institution, if applicable; or

ii. holds current accreditation of the maritime training program offered by the institution from one or more of the following:

A. the State's Department of Education or equivalent State agency; or

B. employers in the United States maritime industry; or

C. other appropriate external review body which is specifically authorized to review and validate post-secondary education programs and is acceptable to MARAD.

c. An entity sponsoring a registered apprenticeship program holds current accreditation from a State Apprenticeship Agency (SAA) in accordance with 29 CFR part 29.

d. A maritime training center designated prior to the date of enactment of the FY 2023 NDAA.

6. All applicant institutions should submit a brief narrative statement* for one or more qualitative attributes fostered by the institution to accomplish the following:

a. Support the workforce needs of the local, state, or regional economy;

b. Build the STEM (Science, Technology, Engineering, and Math) competencies of local/future workforce to meet emerging local, regional, and national economic interests;

c. Promote diversity, equity, inclusion, and accessibility within the institution, including among the student body, faculty, and staff;

d. Offer a broad-based curriculum and stackable credentials, where applicable;

e. Engage and/or collaborate with the maritime industry, including, but not limited to employers, associations, and other industry organizations or partners;

f. Engage and/or collaborate with employer-led maritime training practices and programs through Sector Partnerships as authorized in the 2014 Workforce Innovation and Opportunity Act section 3(26);

g. Engage and/or collaborate with local and regional maritime high schools with maritime, maritime related, Career Technical Education (CTE) or STEM programs;

h. Engage and/or collaborate with maritime academies and other institutions or organizations for advanced proficiency and higher education; and

i. Conduct other significant domestic maritime workforce development related activities.

7. All applicant institutions may provide any relevant endorsements, awards, recognition and significant accomplishments in support of their application.

Note: As part of designation, CoE designee institutions are geolocated on MARAD's CoE Interactive Map located on the MARAD website. In addition to identifying geographic location, this map also provides a link to a landing page for each institution and a brief narrative statement, an Institution Overview, about each institution's maritime program. Applicants are encouraged to take into consideration that the information they submit for 6a-6i may serve dual purpose: application support and content for a one-page institutional overview that highlights your institution's achievements and aspirations.

Paperwork Reduction Act

The information collection requirements in the final CoE designation policy have been approved under information collection number 2133-0549 by the Office of Management and Budget (OMB) under the Paperwork Reduction Act of 1995, 44 U.S.C. 3501, et seq. In accordance with 5 CFR 1320.5(b)(2)(i), persons are not required to provide information to the Government unless the information collection displays a current and valid OMB control number. This application process is operating under the following current and valid OMB control number: 2133-0549.

(Authority: The National Defense Authorization Act for Fiscal Year 2023, Pub. L. 117-263 (December 23, 2022), 46 U.S.C. 51706. The Paperwork Reduction Act of 1995, 44 U.S.C. chapter 35, as amended.)

By Order of the Maritime Administrator.
T. Mitchell Hudson, Jr.,
Secretary, Maritime Administration.

[FR Doc. 2023-15382 Filed 7-19-23; 8:45 am]

BILLING CODE 4910-81-P